Title 3—

The President

Memorandum of April 12, 2024

Delegation of Authority Under Section 506(a)(2) of the Foreign Assistance Act of 1961

Memorandum for the Secretary of State

By the authority vested in me as President by the Constitution and the laws of the United States of America, including section 621 of the Foreign Assistance Act of 1961 (FAA), I hereby delegate to the Secretary of State:

(1) the authority under section 506(a)(2) of the FAA to direct the drawdown of up to $60 million in articles and services from the inventory and resources of any agency of the United States Government and military education and training from the Department of Defense for the purposes and under the authorities of chapter 8 of part I of the FAA to provide anti-crime and counternarcotics assistance to countries that contribute personnel to the Multinational Security Support Mission for Haiti and to the Haitian National Police; and

(2) the authority to make the determination required under such section to direct such a drawdown.

You are authorized and directed to publish this memorandum in the Federal Register.

THE WHITE HOUSE,

Washington, April 12, 2024

[FR Doc. 2024-09431

Filed 4-29-24; 8:45 am]

Billing code 4710-10-P